DEPARTMENT OF HEALTH AND HUMAN SERVICES

National Institutes of Health

Proposed Collection; Comment Request; Alcohol Prevalence and Gene/Environment Interactions in Native American Tribes (a 10 Tribe Study)

SUMMARY: In compliance with the requirement of Section 3506(c)(2)(A) of the Paperwork Reduction Act of 1995, for opportunity for public comment on proposed data collection projects, the National Institute on Alcohol Abuse and Alcoholism (NIAAA), the National Institutes of Health (NIH) will publish periodic summaries of proposed projects to be submitted to the Office of Management and Budget (OMB) for review and approval.

Proposed Collection: Title: Alcohol Prevalence and Gene/Environment Interactions in Native American Tribes (a 10 Tribe Study). Type of Information Collection Request: Extension. Need and Use of Information Collection: The Ten Tribe Study is being conducted to collect psychiatric and personal data from tribes with different rates of alcoholism. This data will be analyzed to determine, if possible, why tribes with similar lifestyles have different rates of alcoholism and alcohol abuse. Specifically, the information gathered during this study will be used to: (1) determine prevalence rates of alcoholism in 10 demographically sampled Native American tribes using structured or semi-structured interviews to rigorously diagnose alcoholism; (2) systematically diagnose conditions which are often comorbid with alcoholism including drug abuse, depression, and antisocial personality; (3) address crucial antecedents and consequences of alcoholism and environmental issues in alcohol vulnerability such as post-traumatic stress, violence, acculturation, and child abuse; and (4) investigate genetic vulnerability factors for tribal populations with high, moderate, and low alcoholism prevalence. This study has been ongoing for three years and is to be extended for three additional years. Frequency of Response: Once per respondent. Affected Public: Individuals. Type of Respondents: Adults. The annual reporting burden is as follows: Estimated Number of Respondents: 1,800; Estimated Number of Responses per Respondent: 1; Average Burden Hours Per Response: 4.0; and Estimated Total Annual Burden Hours Requested: 7,200. There are no Costs to Respondents to report. There are no Capital Costs to report. There are no Operating or Maintenance Costs to report.

Request For Comments: Written comments and/or suggestions from the public and affected agencies are invited on one or more of the following points: (1) Whether the extension of this collection of information is necessary for the proper performance of the function of the agency, including whether the information will have practical utility; (2) The accuracy of the agency's estimate of the burden of the proposed collection of information, including the validity of the methodology and assumptions used; (3) Ways to enhance the quality, utility, and clarity of the information to be collected; and (4) Way to minimize the burden of the collection of information on those who are to respond, including the use of appropriate automated, electronic, mechanical, or other technological collection techniques or other forms of information technology.

FOR FURTHER INFORMATION CONTACT: To request more information on the proposed project or to obtain a copy of the data collection plans and instruments, contact Ms. Ronni Nelson, Laboratory of Neurogenetics, Division of Intramural Clinical and Biological Research, NIAAA, NIH, 12420 Parklawn Drive, Suite 451, Rockville, Maryland 20852 or E-mail your request, including your address to: rn46h@nih.gov. Ms. Nelson can be contacted by telephone at 301-443-5781.

COMMENTS DUE DATE: Comments regarding this information collection are best assured of having their full effect if received on or before June 2, 2000.

Dated: March 28, 2000.
Stephen Long,
Executive Officer, NIAAA.

[FR Doc. 00-8103 Filed 3-31-00; 8:45 am]

BILLING CODE 4140-01-M